DEPARTMENT OF LABOR

Employment and Training Administration

[TA-W-81,432]

G4 Products, LLC a Subsidiary of G4 Holdings, Inc. Including Workers Whose Wages are Paid Under CPS Ventures, LLC, Crestline, Ecoeverywhere, LLC, G4 Services, LL, Geiger Brothers, Geiger Group, Livgeiger, and Sun Graphix and Including On-Site Leased Workers from OSW and Maine Staffing Group Lewiston, ME; Amended Certification Regarding Eligibility to Apply for Worker Adjustment Assistance

In accordance with Section 223 of the Trade Act of 1974, as amended (“Act”), 19 U.S.C. 2273, the Department of Labor issued a Certification of Eligibility to Apply for Worker Adjustment Assistance on April 23, 2012, applicable to workers and former workers of G4 Products, LLC, a subsidiary of G4 Holdings, Inc., including on-site leased workers of OSW and Maine Staffing Group, Lewiston, Maine (G4 Products). The Department's Notice of determination was published in the Federal Register on May 17, 2012 (77 FR 29364). The workers are engaged in activities related to the production of paper based calendars, journals, planners, address books, and stationary products.

Based on information provided in a later-filed petition, the Department reviewed the certification for G4 Products.

Additional information provided by the company official revealed that the subject worker group includes workers at the G4 Products, Lewiston, Maine facility whose wages are paid under CPS Ventures, LLC, Crestline, ECOeverywhere, LLC, G4 Services, LLC, Geiger Brothers, Geiger Group, Livgeiger, LLC, and Sun Graphix. The subject worker group does not, however, include workers of Geiger O'Cain, LLC (doing business as Geiger Carolinas).

The intent of the Department's certification is to include all workers at the G4 Products, Lewiston, Maine facility who have met the appropriate TAA criteria. Therefore, the Department is amending this certification to include workers whose wages are paid under CPS Ventures, LLC, Crestline, ECOeverywhere, LLC, G4 Services, LLC, Geiger Brothers, Geiger Group, Livgeiger, LLC, and Sun Graphix.

The amended notice applicable to TA-W-81,432 is hereby issued as follows:

All workers of G4 Products, LLC, a subsidiary of G4 Holdings, Inc., including workers whose wages are paid under CPS Ventures, LLC, Crestline, ECOeverywhere, LLC, G4 Services, LLC, Geiger Brothers, Geiger Group, Livgeiger, LLC, and Sun Graphix, and including on-site leased workers from OSW and Maine Staffing Group, Lewiston, Maine, who became totally or partially separated from employment on or after March 19, 2011 through April 23, 2014, and all workers in the group threatened with total or partial separation from employment on April 23, 2012 through April 23, 2014, are eligible to apply for adjustment assistance under Chapter 2 of Title II of the Trade Act of 1974, as amended.

Signed in Washington, DC this 25th day of March, 2013.
Elliott S. Kushner,
Certifying Officer, Office of Trade Adjustment Assistance.

[FR Doc. 2013-08133 Filed 4-8-13; 8:45 am]

BILLING CODE 4510-FN-P